DEPARTMENT OF TRANSPORTATION

National Highway Traffic Safety Administration

[Docket No. NHTSA-2012-0165; Notice 1]

General Motors, LLC, Receipt of Petition for Decision of Inconsequential Noncompliance

AGENCY: National Highway Traffic Safety Administration (NHTSA), Department of Transportation (DOT).

ACTION: Receipt of petition.

SUMMARY: General Motors, LLC (GM) ¹ has determined that certain model year (MY) 2011 through 2013 Buick Regal and MY 2013 Chevrolet Malibu passenger cars may not fully comply with the telltale bulb outage requirement found in paragraph S5.5.6 of Federal Motor Vehicle Safety Standard (FMVSS) No 108, Lamps, Reflective Devices, and Associated Equipment. GM has filed an appropriate report dated October 3, 2012, pursuant to 49 CFR Part 573, Defect and Noncompliance Responsibility and Reports.

¹ General Motors, LLC is a manufacturer of motor vehicles and is registered under the laws of the state of Michigan.

DATES: October 17, 2013.

ADDRESSES: Interested persons are invited to submit written data, views, and arguments on this petition. Comments must refer to the docket and notice number cited at the beginning of this notice and be submitted by any of the following methods:

• Mail: Send by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. GM's petition: Pursuant to 49 U.S.C. 30118(d) and 30120(h) (see implementing rule at 49 CFR Part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 109,563 ² vehicles that GM no longer controlled at the time it determined that the noncompliance existed.

² GM's petition, which was filed under 49 CFR Part 556, requests an agency decision to exempt GM as a motor vehicle manufacturer from the notification and recall responsibilities of 49 CFR Part 573 for the 109,563 affected vehicles. However, a decision on this petition cannot relieve vehicle distributors and dealers of the prohibitions on the sale, offer for sale, introduction or delivery for introduction into interstate commerce of the noncompliant motor vehicles under their control after GM notified them that the subject noncompliance existed.

II. Vehicles Involved: Affected are approximately 109,563 MY 2011 through 2013 Buick Regal and MY 2013 Chevrolet Malibu passenger cars manufactured from January 20, 2010 through September 18, 2012.

III. Noncompliance: GM explains that the subject vehicles are equipped with front turn signals, each of which incorporates two light sources. When both light sources of either front turn signal fail, bulb outage indication is provided as required by paragraph S5.5.6 of FMVSS No. 108. However, bulb outage indication is not provided if only one of the light sources fails in either front turn signal assembly. If a single bulb fails to illuminate, the turn signal is still illuminated by the other bulb.

IV. Rule Text: Paragraph S5.5.6 of FMVSS No. 108 specifically states:

S5.5.6 Each vehicle equipped with a turn signal operating unit shall also have an illuminated pilot indicator. Failure of one or more turn signal lamps to operate shall be indicated in accordance with SAE Standard J588e, Turn Signal Lamps, September 1970 . . .

V. Summary of GM'S Analyses: GM stated its belief that the lack of bulb outage indication is inconsequential to motor vehicle safety for the following reasons:

1. As delivered to the customer the turn signal lamps function properly and meet all requirements of FMVSS No. 108. This is not a situation where the photometric output of the turn signals fails to meet the requirements as delivered to the customer. In fact, the light output of the normally operating turn signals greatly exceeds the photometric requirements as produced.

2. Most drivers will never be affected by the reduction of photometric output, without outage indication as a result of a single front bulb failure, because the failure rate of the turn signal bulb is extremely low. The bulb life of these turn signals is three to four times the life of the bulbs used in turn signals when the bulb outage indication requirement was incorporated into the standard. The bulbs used in the subject front turn signals have a tested life of 1,100 hours at 12.8 volts. Using this information in a Monte Carlo simulation analysis provides the following results:

Years | 2.5 | 5.0 | 7.5 | 10.0
Miles | 31,250 | 62,500 | 93,750 | 125,000
No. of Burnouts | 0 | 0 | 1 | 4
SIM Vehicles | 10,000 | 10,000 | 10,000 | 10,000
Failure IPTV | 0.000 | 0.000 | 0.400 | 4.000

Consequently, it is extremely unlikely a driver will experience a single turn signal bulb failure over the life of the vehicle, and thus the lack of outage indication, with a single bulb failure, is inconsequential to motor vehicle safety.

3. With a single bulb, the turn signal still functions and provides perceptible indication that the vehicle may be turning. In the extremely remote case that both light sources were to fail, in either front turn signal, bulb outage is indicated as required by the standard.

4. In the Malibu vehicle, if an outboard front turn bulb is not working, the inboard bulb continues to meet the photometric requirements. In this case, the centroid of the light shifts and is greater than 100 mm from the lit edge of the low beam head lamp. The light output of the inboard bulb easily meets the minimum photometric requirements specified in FMVSS No. 108.

5. If the inboard bulb burns out on the Malibu, or either bulb on the Regal, the remaining lamp continues to provide light which meets the photometric requirements in some zones, and comes close to the requirements in most of the remaining zones. This light exceeds the standard turn signal photometric requirements, but due to the location of the turn signal (i.e., the turn signal centroid within 100 mm of the lit edge of the low beam lamp) the 2.5 multiplier must be applied to photometric requirements.

a. For the Malibu turn signal lamps, the photometric requirements with the 2.5 multiplier, are met in three of the five zones; and are within 25% of the requirements in a 4th zone.

b. For the Regal turn signal lamps, the photometric requirements with the 2.5 multiplier, are met in two of the five zones; and are within 25% of the requirements in two other zones. The Malibu and Regal turn signal lamps provide the required light under normal driving conditions. In the unlikely circumstance that a single bulb stops functioning, the remaining bulb continues to provide the minimum turn signal light specified in the standard and is generally within 25% of the minimum required light after the 2.5 multiplier is applied. In the case of these vehicles, GM's analysis indicates the light provided by the single bulb is perceptible to the motoring public.

GM has additionally informed NHTSA that it has corrected the noncompliance so that all future production vehicles will comply with FMVSS No. 108.

In summation, GM believes that the described noncompliance of its vehicles is inconsequential to motor vehicle safety, and that its petition, to exempt from providing recall notification of noncompliance as required by 49 U.S.C. 30118 and remedying the recall noncompliance as required by 49 U.S.C. 30120 should be granted.

Authority: 49 U.S.C. 30118, 30120: delegations of authority at 49 CFR 1.95 and 501.8.

Claude H. Harris,
Director, Office of Vehicle Safety Compliance.

[FR Doc. 2013-22561 Filed 9-16-13; 8:45 am]

BILLING CODE 4910-59-P